DEPARTMENT OF COMMERCE

National Oceanic and Atmospheric Administration

[I.D. 051806C]

Endangered Species; Permit No. 1298

AGENCY: National Marine Fisheries Service (NMFS), National Oceanic and Atmospheric Administration (NOAA), Commerce.

ACTION: Notice; issuance of permit modification.

SUMMARY: Notice is hereby given that the Riverbanks Zoo and Garden [Principal Investigator, Mr. Charles Scott Pfaff], P.O. Box 1060, Columbia, SC 29202, has been issued an amendment to Permit No. 1298 to extend the expiration date of the permit through May 31, 2007.

ADDRESSES:

The modification and related documents are available for review upon written request or by appointment in the following office:

Permits, Conservation and Education Division, Office of Protected Resources, NMFS, 1315 East-West Highway, Room 13705, Silver Spring, MD 20910; phone (301) 713-2289, fax (301) 427-2521.

FOR FURTHER INFORMATION CONTACT: Jennifer Skidmore and Kate Swails (301) 713-2289.

SUPPLEMENTARY INFORMATION: On May 21, 2001, notice was published in the Federal Register (66 FR 27940) that Permit No.1298 had been issued to the Riverbanks Zoo and Garden for the continued maintenance of eleven adult shortnose sturgeon (Acipenser brevirostrum) received from the South Carolina Department of Natural Resources in 1996 for education purposes. This permit amendment extends the duration of the permit from May 31, 2006, to May 31, 2007. The requested modification have been granted under the authority of the Endangered Species Act of 1973, as amended (ESA; 16 U.S.C. 1531 et seq.) and the provisions of § 222.306 of the regulations governing the taking, importing, and exporting of endangered and threatened fish and wildlife (50 CFR 222-226).

Issuance of this modification, as required by the ESA was based on a finding that such permit: (1) Was applied for in good faith; (2) will not operate to the disadvantage of any endangered or threatened species; and (3) is consistent with the purposes and policies set forth in section 2 of the ESA.

Dated: May 19, 2006.
P. Michael Payne,
Chief, Permits, Conservation and Education Division, Office of Protected Resources, National Marine Fisheries Service.

[FR Doc. E6-8179 Filed 5-26-06; 8:45 am]

BILLING CODE 3510-22-S